NATIONAL SCIENCE FOUNDATION

Committee Management; Notice of Establishment

The Deputy Director of the National Science Foundation has determined that the establishment of the Oversight Council for the International Arctic Research Center is necessary and in the public interest in connection with the performance of duties imposed upon the National Science Foundation (NSF), by 42 U.S.C. 1861 et seq. This determination follows consultation with the Committee Management Secretariat, General Services Administration.

Name of Committee: Oversight Council for the International Arctic Research Center.

Nature/Purpose: The Oversight Council will be strictly advisory and will advise NSF and the University of Alaska, Fairbanks, on scientific, policy, and management issues relating to the operation of the International Arctic Research Center (IARC). The Oversight Council will review annual program plans of the IARC before submission to NSF.

Responsible NSF Official: Dr. Karl Erb, Director, Office of Polar Programs, National Science Foundation, 4201 Wilson Boulevard, Suite 755, Arlington, VA 22230. Telephone: (703) 292-8030.

Dated: August 9, 2000.
Karen J. York,
Committee Management Officer.

[FR Doc. 00-20526 Filed 8-11-00; 8:45 am]

BILLING CODE 7555-01-M